DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census 2000 Evaluation: Multiple Response Follow-up.

Form Number(s): None.

Agency Approval Number: None.

Type of Request: New collection.

Burden: 1,500 hours.

Number of Respondents: 7,500.

Avg. Hours Per Response: 12 minutes.

Needs and Uses: As part of Census 2000, the Census Bureau is conducting a comprehensive program of evaluations designed to measure how well our programs, operations, and procedures performed. The Multiple Response Follow-up (MRFU) is included in this evaluation program. This evaluation will help determine how well the Primary Selection Algorithm (PSA) resolves multiple returns. The Census 2000 is the first census to provide a wide-range of methods of responding to the public, e.g., returning a questionnaire by mail, responding by telephone, or accessing the Internet. These methods will increase the likelihood of persons responding, but they will also create multiple responses (or “multiple returns”) for some addresses (or Census IDs). PSA is the algorithm used to determine which persons from each of the multiple returns will and will not be included in the Census households for a given Census ID. It includes unduplication between returns and other types of resolution. We will select a nationally representative sample of Census IDs which had more than one Census 2000 return and conduct an interview of all those persons on any of the multiple returns to determine who was a resident on Census Day (April 1, 2000) and who was not. We will compare this information with the persons identified by PSA to be census residents. Evaluation results will be used to determine if PSA was successful in meeting its goals, and to identify areas of future research that will help us learn how we can improve the algorithm.

Affected Public: Individuals or households.

Frequency: One-time.

Respondent's Obligation: Mandatory.

Legal Authority: Title 13 U.S.C., Sections 141 and 193.

OMB Desk Officer: Susan Schechter, (202) 395-5103.

Copies of the above information collection proposal can be obtained by calling or writing Linda Engelmeier, DOC Forms Clearance Officer, (202) 482-3272, Department of Commerce, room 6086, 14th and Constitution Avenue, NW., Washington, DC 20230 (or via the Internet at LEngelme@doc.gov).

Written comments and recommendations for the proposed information collection should be sent within 30 days of publication of this notice to Susan Schechter, OMB Desk Officer, room 10201, New Executive Office Building, Washington, DC 20503.

Dated: July 14, 2000.
Madeleine Clayton,
Management Analyst, Office of the Chief Information Officer.

[FR Doc. 00-18253 Filed 7-18-00; 8:45 am]

BILLING CODE 3510-07-P